DEPARTMENT OF ENERGY

Federal Energy Regulatory Commission

[Docket No. MT00-5-000]

Egan Hub Partners, L.P., Notice of Proposed Changes in FERC Gas Tariff

April 21, 2000.

Take notice that on April 18, 2000 Egan Hub Partners, L.P. (Egan) tendered for filing as part of its FERC Gas Tariff, Original Volume No. 1, proposed to be effective on May 18, 2000: Second Revised Sheet No. 87, Third Revised Sheet No. 88.

Egan states that the revised tariff sheets are being filed to update the description of Egan's compliance with Order No. 497 and the Commission's marketing affiliate regulations.

Any person desiring to be heard or to protest said filing should file a motion to intervene or a protest with the Federal Energy Regulatory Commission, 888 First Street, NE, Washington, DC 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-10469 Filed 4-26-00; 8:45 am]

BILLING CODE 6717-01-M